FEDERAL COMMUNICATIONS COMMISSION

FCC Public Forum on World Radiocommunication Conference 2003

AGENCY: Federal Communications Commission.

ACTION: Notice of meeting.

SUMMARY: The Federal Communications Commission will host a public forum on December 1, 2000 to solicit views on improving its preparation process for the next World Radiocommunication Conference.

DATES: Public Forum will be held on December 1, 2000.

FOR FURTHER INFORMATION CONTACT: Julie Buchanan, International Bureau, Federal Communications Commission at 202-418-0783, jbuchana@fcc.gov.

SUPPLEMENTARY INFORMATION: On November 6, 2000, the Federal Communications Commission released a public notice announcing that it will hold a public forum on December 1, 2000 from 3:00 p.m. to 5:00 p.m. in its Commission Meeting Room. All members of the public are invited to attend, and no advance notice of participation is required. The purpose of the forum is to gather information from the public regarding what the Federal Communications Commission can do to improve its processes and procedures for preparing for the World Radiocommunication Conference in 2003.

Synopsis

The Commission will hold a public forum to solicit views on improving its preparation process for the next World Radiocommunication Conference (WRC-2003). The forum will take place on December 1, 2000 from 3:00 p.m. until 5:00 p.m. in the Commission Meeting Room, Federal Communications Commission, 445 12th Street, SW., Washington, DC 20554. The public is invited to attend. No advance notice of participation is required.

The World Radiocommunication Conferences meet to review and amend the international radio regulations that govern the allocation and use of global and regional spectrum. The Commission seeks input from the public on how to proceed for WRC-2003. The Commission will use the information gathered at this public forum to learn what aspects of the FCC process have been successful in the past and what areas need refinement. The agenda for the forum is attached.

For further information, contact John Giusti at 202-418-1407, Julie Garcia at 202-418-0763, or Julie Buchanan at 202-418-0783.

Agenda

Public Forum to Discuss the FCC's Preparation Process for WRC-2003, December 1, 2000, Commission Meeting Room, 3:00 p.m.-5:00 p.m.

I. Opening Remarks

II. Topics for Discussion

A. How should the FCC structure and organize its preparation process?

B. How can the FCC improve its coordination efforts with the industry and with other government participants?

C. How can the FCC help facilitate consensus among industry participants?

D. What can the FCC do to ensure that the U.S. is effective at regional and bilateral meetings?

E. How can the FCC help the U.S. build support for its positions abroad?

1. How can the FCC work with industry members to influence the positions of other countries?

2. What can the FCC do to gain support for U.S. positions from other regions?

F. What additional steps can the FCC take to improve the outcome of the Conference itself?

III. Other items

Federal Communications Commission.
Magalie Roman Salas,
Secretary.

[FR Doc. 00-30239 Filed 11-27-00; 8:45 am]

BILLING CODE 6712-01-U